DEPARTMENT OF STATE

[Public Notice: 12370]

Determination Pursuant to Section 451 of the Foreign Assistance Act of 1961 Regarding FY 2021 Peacekeeping Operations

ACTION: Determination.

SUMMARY: The State Department is publishing a Determination signed by the former Deputy Secretary of State for Management and Resources on September 8, 2022.

SUPPLEMENTARY INFORMATION: Brian P. McKeon, former Deputy Secretary of State for Management and Resources, signed the following “Determination Pursuant to Section 451 of the Foreign Assistance Act of 1961 Regarding FY 2021 Peacekeeping Operations” on September 8, 2022. The State Department maintains the original document.

(Begin summary.)

Determination Pursuant to Section 451 of the Foreign Assistance Act of 1961 Regarding FY 2021 Peacekeeping Operations

Pursuant to section 451 of the Foreign Assistance Act of 1961 (the “Act”) (22 U.S.C. 2261), section 1-100(a)(1) of Executive Order 12163, and Delegation of Authority No. 513, I hereby authorize, notwithstanding any other provision of law, the use of up to $21,420,323 made available to carry out provisions of the Act (other than the provisions of chapter 1 of part I of the Act) to provide assistance for the Philippines and Nepal.

This Determination and the accompanying Memorandum of Justification shall be promptly reported to the Congress. This Determination shall be published in the Federal Register.

(End summary.)

Gregory A. Hermsmeyer,
Director, Office of Security Assistance, Bureau of Political Military-Affairs, U.S. Department of State.

[FR Doc. 2024-07461 Filed 4-8-24; 8:45 am]

BILLING CODE 4710-25-P